DEPARTMENT OF COMMERCE

Foreign-Trade Zones Board

[B-57-2013]

Foreign-Trade Zone (FTZ) 21—Dorchester County, South Carolina, Authorization of Production Activity, AGFA Materials Corporation, (Photographic Film Cutting), Goose Creek, South Carolina

On May 17, 2013, the South Carolina State Ports Authority, grantee of FTZ 21, submitted a notification of proposed production activity to the Foreign-Trade Zones Board on behalf of AGFA Materials Corporation, within Site 16 of FTZ 21, in Goose Creek, South Carolina.

The notification was processed in accordance with the regulations of the FTZ Board (15 CFR part 400) including notice in the Federal Register inviting public comment (78 FR 34639, 06-10-2013). The FTZ Board has determined that no further review of the activity is warranted at this time. The production activity described in the notification is authorized, subject to the FTZ Act and the Board's regulations, including Section 400.14.

Dated: September 13, 2013.
Andrew McGilvray,
Executive Secretary.

[FR Doc. 2013-22945 Filed 9-19-13; 8:45 am]

BILLING CODE 3510-DS-P